DEPARTMENT OF THE INTERIOR

Bureau of Land Management

[CA-160-1220-AF]

Supplementary Rules for Public Land in Eastern Tulare County, CA

AGENCY: Bureau of Land Management, Interior.

ACTION: Final supplementary rulemaking.

SUMMARY: The Bureau of Land Management (BLM), Bakersfield (California) Field Office has established the supplementary rules listed below to protect natural resources and provide for the safety of visitors, and property on public land located in eastern Tulare County adjacent to the towns of Three Rivers and Hammond, California. These supplementary rules will be posted on public land in the applicable areas and made available at the Bakersfield Field Office.

DATES: January 2, 2001.

FOR MORE INFORMATION CONTACT: Ronald D. Fellows, Bureau of Land Management, Bakersfield Field Office Manager, 3801 Pegasus Drive, Bakersfield, California 93308.

Supplementary Rules

Pursuant to 43 CFR 8365.1-6 (Supplementary Rules), 43 CFR 8364.1 (Closure and restriction orders), and 8341.2 (Special rules) the following supplementary rules are in effect on public land managed by the BLM within Case Mountain/Milk Ranch Peak area defined as: Township 17 South, Range 29 East, MDB&M and Township 18 South, Range 29 East, MDB&M or the North Fork of the Kaweah Special Management Area defined as: Township 15 South, Range 28 East, MDB&M; Township 16 South, Range 28 East, MDB&M; and, Township 17 South, Range 28 East, MDB&M.

A. Target shooting is permitted within the Case Mountain/Milk Ranch Peak area provided that the firearm is discharged toward a proper backstop sufficient to stop the projectile's forward progress beyond the intended target. Target shooting may not occur within one mile of any private residence or occupied structure. Targets shall be constructed of cardboard and paper or similar non-breakable materials. All targets must be removed and properly discarded after use. No projectile may be intentionally fired into any tree.

B. All roads, trails, and routes of travel on public land within the North Fork of the Kaweah Special Management Area are closed to off-highway vehicles registered or identified under section 38020 of the California Vehicle Code except as permitted by the Authorized Officer.

C. All roads, trails, and routes of travel within the Case Mountain/Milk Ranch Peak area are closed to the operation of any motor vehicle, except for access to private real estate by property owners or persons they specifically designates as having access to their property, public employees, public agency volunteers in the course of their duties, or such access as authorized under permit, easement, or lease by the authorized officer.

D. The operation of motor vehicles within the North Fork of the Kaweah Special Management Area is limited to designated roads. Designated roads includes roads maintained by federal, state, or local government, roads leading to parking areas created by the BLM, Shepherd's Saddle Road, and Overlook Road. Overlook Road extends west from Shepherd's Saddle Road 0.8 miles from the intersection of Shepherd's Saddle Road and North Fork Drive. Designated roads may not be used for off-highway vehicle free-play. Vehicles may not be parked in a way which restricts the flow of traffic through parking areas or on roads. Any vehicle parked in a way which obstructs other passenger vehicles, or blocks access to fire road gates may be towed and stored at the owners expense.0

E. Within the Case Mountain/Milk Ranch Peak area, and the North Fork of the Kaweah Special Management Area, property may not be left unattended for more than three days without the prior approval of the Authorized Officer. Any such unattended property will be considered abandoned, and may be removed and stored by law enforcement personnel at the owner's expense.

F. Within the Case Mountain/Milk Ranch Peak area, and the North Fork of the Kaweah Special Management Area, all litter, trash, and refuse must be kept within a container or receptacle and removed when leaving public land. Litter, waste, or refuse may not be thrown onto or stored on the ground.

G. Within the Case Mountain/Milk Ranch Peak area, and the North Fork of the Kaweah Special Management Area, a permit or written authorization from BLM shall be required for all research activities which involve the taking, or placement of, any natural or man-made object, thing, plant, or animal on these lands. A permit or written authorization shall also be required if the research involves the disturbance of any animal, plant, cultural or historic resource, soil, or federal property. Restrictions regarding the disturbance of animal and plant resources do not apply to the California Department of Fish and Game or the U.S. Fish and Wildlife Service as long as the activities are in accordance with their trustee responsibilities for managing wildlife resources. Leisure activities such as astronomy, or bird watching are not intended to be covered by this supplementary rule.

H. Within the Case Mountain/Milk Ranch Peak area, a state of California Fire Permit is required for any camping, cooking, or warming fire ignited on these lands. Portable gas or propane stoves are exempted from this requirement. If any more restrictive fire provisions are established by any governing authority or public officer having jurisdiction, then persons must comply with these.

I. Within the Case Mountain/Milk Ranch Peak area, and the North Fork of the Kaweah Special Management Area, all laws of the State of California applicable to the possession, use, or distribution of controlled substances and/or the protection of persons or property are in effect. These laws may not be violated by any person.

J. Within the Case Mountain/Milk Ranch Peak area and the North Fork of the Kaweah Special Management Area, no person may be under the influence of a controlled substance. No person may be under the influence of alcohol in such a condition that he or she is unable to exercise care for his or her own safety or the safety of others.

SUPPLEMENTARY INFORMATION: The above supplementary rules are being implemented for the following purposes:

The above defined lands contain valuable watershed resources, groves of Sequioa Trees, and regionally significant recreational resources. Improved public access through acquired easements has increased visitation. These supplementary rules are effected to maintain the area's traditional uses consistent with hiking, bicycle riding, equestrian use, and other low impact recreational activities. The concerns of local residents and property owners are also addressed by these supplementary rules.

This order is in no way intended to affect the rights or existing privileges of private land owners or their interests within the defined public land. Existing public easements, county roads, state highways, private lanes or driveways, and private real estate is exempt from these supplementary rules. Further, this order does not infer any Bureau of Land Management jurisdiction over private or state owned lands. These supplementary rules will be in effect until replaced by a more comprehensive recreational management plan for the areas. These supplementary rules are in compliance with the Caliente Resource Management Plan of May 1997.

Federal, State, and local law enforcement officers and California peace officers, as defined in Chapter 4.5 of the California Penal Code, are exempt from these supplementary rules in the course of their official duties. Limitations upon the use of motorized vehicles do not apply to emergency vehicles, fire suppression and rescue vehicles, law enforcement vehicles, and other vehicles performing official duties, or as approved by an authorized officer of the BLM.

These supplementary rules, having been previously published in the Federal Register (65 FR 40124, June 29, 2000) for public comment, will take effect upon publication in the Federal Register.

Penalties

The authorities for these closures and supplementary rules are 43 CFR 8341.2, 8364.1, and 8365.1-6. Violations of these supplementary rules are punishable by fines of up to $1,000 and/or imprisonment not to exceed 12 months as well as the penalties provided under State law.

Dated: November 22, 2000.
Mike Pool,
California State Director.

[FR Doc. 00-33418 Filed 12-29-00; 8:45 am]

BILLING CODE 4310-40-M